DEPARTMENT OF DEFENSE

National Security Agency/Central Security Service

Privacy Act of 1974; System of Records

AGENCY: National Security Agency/Central Security Service, DOD.

ACTION: Notice to add a system of records.

SUMMARY: The National Security Agency/Central Security Service is proposing to add an exempt system of records to its existing inventory of record systems subject to the Privacy Act of 1974, (5 U.S.C. 552a), as amended. The exemptions increase the value of the system of records for law enforcement purposes.

DATES: This proposed action would be effective without further notice on September 8, 2004, unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on July 30, 2004, to the House Committee on government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 3, 2004.
L. M. Bynum,
Alternate OSD Federal Register Liaison Officer, Department of Defense.

GNSA 20

SYSTEM NAME:

NSA Police Operational Files.

System location:

National Security Agency/Central Security Service, Ft. George G. Meade, MD 20755-6000.

Categories of individuals covered by the system:

NSA Police Officers; civilian DoD employees; military assignees; employees of other Federal agencies or military departments; contractor employees; non-appropriated fund instrumentality employees; family members of the afore mentioned categories; owners or operators of vehicles entering or attempting to enter on or near NSA-occupied areas; individuals arrested on or near NSA occupied areas; individuals suspected of posing a threat to the Safety of NSA persons or property; and individuals cited for violations of NSA security regulations.

Categories of records in the system:

Records include information from Police inventory control documents (to include weapon and radio serial numbers, police officer's name, and police officer's assigned shift), Incident Reports, Security Information Reports, reports of security violations, arrest reports, CTC vehicle registration files, accident reports, suspect data file/reports, missing property reports, traffic/parking tickets, access control information, equipment inspection logs, and similar documents or files.

Authority for maintenance of the system:

National Security Agency Act of 1959, as amended, 50 U.S.C. 402 note (Pub. L. 86-36), and 50 U.S.C. 403 (Pub. L. 80-253); 40 U.S.C. 318, Special police; DoD Directive 5100.23, Administrative Arrangements for the National Security Agency; DoD Directive 5200.8, Security of DoD Installations and Resources; DoD Regulations 5240.1-R, Procedures governing the activities of DoD intelligence components that affect United States persons; NSA/CSS Regulation 120-19, NSA/CSS Headquarters Identification System; NSA/CSS Policy 120-02, Protective Services; E.O. 9397 (SSN); E.O. 12333, United States Intelligence Activities; E.O. 12958, Classified National Security Information; and E.O. 12968, Access to Classified Information.

Purpose(s):

To maintain records relating to the operations of the NSA Police for the purpose of providing reports for and on personnel and badge information of the current tenants of NSA/CSS facilities; to create and track the status of visit requests and the issuance of visitor badges; to identify employees and visitors at the entrances of the gated facility; to track inside the NSA/CSS facility authorized NSA/CSS employee and visitor badges as they are used to pass through automated turnstile system, access office suites and other work areas; to track any unsolicited contacts with the NSA/CSS; to track the investigation and determination of any wrongdoing or criminal activities by NSA/CSS employees or facility visitors; and to compile such statistics and reports on the number of unauthorized attempts to access NSA facilities, the number of security violations and arrests, the number of visitors, and reports of a similar nature.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal agencies to facilitate security, employment, detail, liaison, or contractual determinations as required, and in furtherance of, NSA police operations.

To Federal agencies involved in the protection of intelligence sources and methods, such as in counterintelligence investigations, to facilitate such protection.

The DoD “Blanket Routine Uses” published at the beginning of the NSA/CSS's compilation of record systems also apply to this record system.

Policies and practices for storing, retrieving, accessing, retaining, and disposing of records in the system:

Storage:

Records are maintained in paper files and on electronic mediums.

Retrievability:

By name, organization (or affiliation), dates of visit, type of badge issued, Social Security Number, vehicle license plate number, home address and phone number, date and place of birth, work center assigned, subject matter, and case number.

Safeguards:

Secured by a series of guarded pedestrian gates and checkpoints. Access to facilities is limited to security-cleared personnel and escorted visitors only. With the facilities themselves, access to paper and computer printouts are controlled by limited-access facilities and lockable containers. Access to electronic means is controlled by computer password protection.

Retention and disposal:

Records are periodically reviewed for retention. Records having no evidential, informational, or historical value or not required to be permanently retained are destroyed. Visitor passes and campus access files are destroyed when 15 years old. Physical security compromise reports are destroyed 10 years from time of incident. Files relating to exercise of police functions are destroyed when three years old. Reports relating to arrests are destroyed when two years old. Routine police investigations and Guard Service Control files are destroyed when one year old. Destruction is by pulping, burning, shredding, or erasure or destruction of magnetic media.

System manager(s) and address:

Director of Policy, National Security Agency/Central Security Service, 9800 Savage Road, Suite 6248, Ft. George G. Meade, MD 20755-6248.

Notification procedure:

Individuals seeking to determine if records about themselves are contained in this record system should address written inquiries to the Director of Policy, National Security Agency/Central Security Service, 9800 Savage Road, Suite 6248, Ft. George G. Meade, MD 20755-6248.

Written inquiries should include requestor's full name, address, and Social Security Number.

Record access procedures:

Individuals seeking access to records about themselves contained in this record system should address written inquiries to the Deputy Director of Policy, National Security Agency/Central Security Service, 9800 Savage Road, Suite 6248, Ft. George G. Meade, MD 20755-6248.

Written inquiries should include requestor's full name, address, and Social Security Number.

Contesting record procedures:

The NSA/CSS rules for contesting contents and appealing initial determinations are published at 32 CFR part 322 or may be obtained by written request addressed to the Chief, Office of Policy, National Security Agency/Central Security Service, Ft. George G. Meade, MD 20755-6000.

Record source categories:

Individuals themselves; victims, witnesses, investigators, Security Protective Force, and other federal or state agencies and organizations.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to the information exempt to the extent that disclosure would reveal the identity of a confidential source. Note: When claimed, this exemption allows limited protection of investigative reports maintained in a system of records used in personnel or administrative actions.

Records maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility, or qualifications for federal civilian employment, military service, federal contracts, or access to classified information may be exempt pursuant to 5 U.S.C. 552a(k)(5), but only to the extent that such material would reveal the identity of a confidential source. This provision allows protection of confidential sources used in background investigations, employment inquiries, and similar inquiries that are for personnel screening to determine suitability, eligibility, or qualifications.

An exemption rule for this exemption has been promulgated in accordance with requirements of 5 U.S.C. 553(b)(1), (2) and (3), (c) and (e) and published in 32 CFR part 322. For additional information contact Ms. Anne Hill, Privacy Act Officer, NSA/CSS Office of Policy, 9800 Savage Road, Suite 6248, Ft. George G. Meade, MD 20766-6248.

[FR Doc. 04-18080 Filed 8-6-04; 8:45 am]

BILLING CODE 5001-06-M